DEPARTMENT OF JUSTICE

Office of Juvenile Justice and Delinquency Prevention

[OJP(OJJDP)-1324]

Program Announcement for Missing and Exploited Children Nonprofit Organizations and Family Support Program

AGENCY: Office of Justice Programs, Office of Juvenile Justice and Delinquency Prevention, Justice.

ACTION: Notice of solicitation.

SUMMARY: The Office of Juvenile Justice and Delinquency Prevention (OJJDP), pursuant to the Juvenile Justice and Delinquency Prevention (JJDP) Act of 1974, as amended, section 405(a), 42 U.S.C. 5776, requires the Administrator of OJJDP to make grants to and enter into contracts with public agencies or nonprofit private organizations to support research, demonstration, or service programs designed to educate parents, children, and community agencies in ways to prevent the abduction and sexual exploitation of children, to provide information to assist in the location and return of missing children, and to aid communities in the collection of materials which would be useful to parents in assisting others in the identification of missing children. OJJDP is publishing this program announcement to request applications for a competitive discretionary grant program, the Missing and Exploited Children Nonprofit Organizations and Family Support Program.

The purpose of the Missing and Exploited Children Nonprofit Organizations and Family Support Program is to improve, at the State and local levels, the quality, availability, and coordination of services provided to missing and exploited children and their families and to improve the capacity and capabilities of missing children nonprofit organizations. Until now, little attention has been given to the need to coordinate with local service providers and expand services for children and their families. There is currently no network of screened and trained volunteers to provide specialized assistance and advice to parents searching for their children. Furthermore, there are few agencies that are trained or equipped to provide mentoring services to families whose children have been abducted or illegally detained in a foreign country. Federal assistance is urgently needed to coordinate and assist in this problem.

DATES: Applications must be received by 5 p.m. ET on August 24, 2001.

ADDRESSES: All application packages should be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the OJJDP Application Kit from the Juvenile Justice Clearinghouse at 800-638-8736. The Application Kit is also available at OJJDP's Web site at www.ojjdp.ncjrs.org/grants/2000_app_kit/index.html. (See “Format” in this program announcement for instructions on application standards.)

FOR FURTHER INFORMATION CONTACT: Ronald C. Laney, Director, Child Protection Division, Office of Juvenile Justice and Delinquency Prevention, 202-616-3637. [This is not a toll-free number.]

SUPPLEMENTARY INFORMATION:

Purpose

To provide ongoing oversight, support, and assistance to missing and exploited children nonprofit organizations (NPOs) to improve the quality of services for missing and exploited children and their families and to provide ongoing support and one-on-one assistance to families of children who have been exploited or abducted or who are otherwise missing.

Background

In 1984, Congress enacted Title IV of the JJDP Act, the Missing Children's Assistance Act, section 402, 42 U.S.C. 5771 et seq., which found that each year thousands of children are abducted or removed from the control of a parent having legal custody without such parent's consent, under circumstances that immediately put them in grave danger. Many of these children are never reunited with their families, are at great risk or both physical harm and sexual exploitation, and in many cases, parents and local law enforcement have neither the resources nor the expertise to mount expanded search efforts. Frequently, law enforcement quickly exhausts all leads in missing children cases and requires assistance from communities in which the child may be located.

For the purposes of the JJDP Act, the term “missing children” refers to children who have been abducted by either a family or non-family member and includes children who have been abducted within the United States and those who have been abducted from the United States and taken to or illegally retained in a foreign country. The term “child exploitation” refers to any criminal activity that focuses on children as sexual objects and includes child abuse, child pornography, and prostitution.

Title IV of the JJDP Act established the Missing and Exploited Children's Program (MECP) within OJJDP. Under MECP, OJJDP is responsible for coordinating Federal missing and exploited children activities, providing a national resource center and clearinghouse, and supporting research, training, technical assistance, and demonstration programs to enhance overall response to missing children and their families. OJJDP's MECP has made significant advances in the course of meeting its responsibilities to provide services to children, parents, educators, prosecutors, and interested persons working on child safety issues.

For purposes of this solicitation, OJJDP proposes to continue its concentration on programs that are national in scope and that promote awareness of and enhance the Nation's response to missing and exploited children and their families. This solicitation conforms to Title IV, Missing Children's Act provisions as they are applied through the JJDP Act.

Since its inception, OJJDP's MECP has supported an aggressive program of research and program development focusing on issues related to missing, exploited, and abducted children. In 1984, the National Resource Center and Clearinghouse on Missing Children was established under the National Center for Missing and Exploited Children (NCMEC). Since that time, OJJDP has funded the design, development, and implementation of numerous model projects, approaches, and demonstration efforts that address missing and exploited children issues.

OJJDP has made a concerted effort to solicit input from the field about needs, issues, and concerns related to missing and exploited children. In FY's 1994 and 2001, OJJDP conducted a series of focus groups consisting of victim parents; staff from Federal, State, and local agencies; and representatives of national, State, and local nonprofit organizations. Participants identified program priorities and gaps in services that required action by OJJDP. One of the outcomes of this process was the recognition that parents of missing children often do not receive the critical support or assistance needed in their time of crisis. In response to this concern, OJJDP—in collaboration with victim parents—developed a publication for parents, When Your Child Is Missing: A Family Survival Guide, and funded a parent-to-parent mentoring program to provide intense and immediate services and support to families of missing children.

Additionally, OJJDP has funded research projects to improve the understanding of missing and exploited children issues and improve the handling and response to these issues. The National Incidence Studies of Missing, Abducted, Runaway, and Thrownaway Children in America (NISMART) (Office of Juvenile Justice and Delinquency Prevention, 1990) was the first national study to provide reliable data about the numbers and types of missing child cases and clarify the types of cases and situations that make up the “missing children” population. Results of the second NISMART study, which will be released later this year, will provide more up-to-date critical information about the dynamics of missing child cases, the psychological impact of abduction on children and families, and the aftermath of abduction when a missing child comes home. (See Hanson, 2000.)

Since 1975, missing and exploited children NPOs have been established throughout the country to provide services and support to children who have been victimized or who are missing and to their families. Today it is estimated that there are approximately 100 missing and exploited children NPOs. Although the existence of these NPOs spurred increased services for families and children, there were no mechanisms in place to monitor NPOs to ensure the quality and credibility of services.

In 1994, OJJDP awarded a competitive grant to the National Victims Center to develop a national nonprofit organization to help coordinate and monitor the activities of NPOs. This program established the Association of Missing and Exploited Children Organizations (AMECO). Since that time, AMECO has established a process to certify credible NPOs; has held annual national conferences to provide training and skill building for NPOs and State missing children clearinghouses; and has established a system to improve communication and collaboration among NPOs, State missing children clearinghouses, law enforcement, NCMEC, and the U.S. Department of Justice.

The award period for the National Victims Center grant ended in 1995. OJJDP is publishing this program announcement to seek applications for continuing the work that has been carried out by AMECO over the past 6 years.

Goal

The goal of the Missing and Exploited Children Nonprofit Organizations and Family Support Program is to support a national nonprofit association to (1) provide oversight to a minimum of 25 missing and exploited children NPOs, and (2) develop a mentoring program that provides one-on-one support to parents of missing children.

Objectives

• To provide management oversight, assistance, and support to membership organizations for missing and exploited children NPOs.

• To create a system for certifying credible missing and exploited children NPOs in order to ensure that high quality services are provided to children and their families.

• To coordinate the activities and services of missing and exploited children NPOs nationwide through networking, newsletters, and information sharing.

• To serve as a repository of information with the ability to operate an Internet Web site including a computer-based system of communication to disseminate information to NPOs, families, children, law enforcement agencies, and other organizations that serve missing and exploited children and their families.

• To expand networking opportunities for missing and exploited children NPOs.

• To increase the capacity and skills of missing and exploited children NPOs through training and technical assistance.

• To create and publicize a parent-to-parent mentoring program for families of missing children.

• To recruit, train, and manage victim parent volunteers to serve as mentors.

• To ensure that NPOs collaborate and cooperate with Federal, State, and local agencies and other organizations that serve missing and exploited children and their families.

• To enhance and improve the ability of missing and abducted child serving agencies and organizations to respond to issues related to cases of missing and exploited children.

Program Strategy

One cooperative agreement will be made for a 4-year project period. The purpose of this solicitation and resulting cooperative agreement is to establish a mechanism for the provision of all technical support necessary for the management and delivery of this program. This includes program design and administration, program management, and fiscal support necessary to sustain those services required for the Missing and Exploited Children Nonprofit Organizations and Family Support Program.

The applicant must demonstrate proven experience and capability to provide timely, relevant professional program continuity for the design, development, delivery, and maintenance of this program. The applicant must demonstrate the ability to perform the tasks outlined in the “Objectives” section above; enlist, train, and manage the professional and volunteer staff; and provide continuity of services.

In addition to addressing the objectives above, the applicant must also include in its application a detailed task plan to justify its resource allocation (staff and funds) based on the level of effort described in this solicitation and develop an efficient and effective mechanism for managing the services and activities of this program.

Eligibility Requirements

OJJDP invites applications from public and private nonprofit agencies, organizations, institutions, and individuals. Joint applications from two or more eligible applicants are welcome; however, one applicant must be clearly indicated as the primary applicant (for correspondence, award, and management purposes) and the others indicated as coapplicants. In particular, applicants must have strong experience in the following areas: (1) Management and oversight of a national missing and exploited children NPO organization, (2) development and management of a parent mentoring program that uses parent volunteers, and (3) national experience and broad recognition in administering programs and activities that access resources from Federal, State, and local agencies and organizations that serve missing and exploited children.

As outlined in the Missing and Exploited Children Assistance Act of 1984, as amended (42 U.S.C 5775, section 405), priority will be given to applicants who “have demonstrated or demonstrate ability in (A) locating missing children or locating and reuniting missing children with their legal custodians; (B) providing other services to missing children or their families * * *.” Additional consideration will be given to applicants who “substantially utilize volunteer assistance.”

Applications from more than one organization must set forth the relationships among the parties. As a general rule, organizations that describe their working relationship in the development of products and the delivery of services as primarily cooperative or collaborative in nature will be considered coapplicants. In the event of a coapplicant submission, one coapplicant must be designated as the payee to receive and disburse project funds and be responsible for the supervision and coordination of the activities of the other coapplicant. Under this arrangement, each organization must agree to be jointly and severally responsible for all project funds and services. Each coapplicant must sign Standard Form (SF) 424, Application for Federal Assistance,¹ and indicate acceptance of the conditions of joint and several responsibility with the other coapplicant.

¹ This form and other required forms can be found in the OJJDP Application Kit. To obtain a copy of the Kit, call the Juvenile Justice Clearinghouse at 800-638-8736 or send an e-mail request to puborder@ncjrs.org. The Kit is also available online at www.ojjdp.ncjrs.org/grants/2000_app_kit/index.html.

Applications that include noncompetitive contracts for the provision of specific services must include a sole source justification for any procurement in excess of $100,000. The contractor may not be involved in the development of the statement of work. The applicant must provide sufficient justification for not competing the portion of work proposed to be contracted.

Selection Criteria

Applicants will be evaluated and rated by a peer review panel according to the selection criteria outlined below. The project narrative must make clear and logical connections among the components listed below. It is further recommended that applications be organized and presented in a way that enables application reviewers to evaluate the proposal in terms of the selection criteria outlined below.

Issues To Be Addressed (20 Points)

The application must include a clear and concise discussion of the issues related to the management and oversight of services and resources for missing and exploited children NPOs and victim parents. The applicant must identify and discuss the most important topics that will need to be addressed in designing and managing such a program. The discussion should reflect the applicant's understanding of the need for undertaking this initiative, the anticipated challenges that face the Missing and Exploited Children Nonprofit Organizations and Family Support Program and ways to address those issues, and the potential long-term impact of this program on children, families, and agencies and organizations that serve them.

Goals and Objectives (10 Points)

The applicant must describe how it will address the stated goals and each of the objectives outlined in the solicitation. The goals and objectives must relate to the issues to be addressed. Any significant modification of the stated goals and objectives should be clearly justified and the implications of any variation carried through in the rest of the proposal. Objectives should specify clearly defined, measurable tasks that will enable the applicant to achieve the goals of the project.

Project Design (25 Points)

Applicants must present a well-developed project design that clearly delineates specific activities, people and other resources involved, and timelines for accomplishing the tasks outlined in the “Program Strategy” section above. The narrative must discuss how and when major activities for each task will be accomplished and how these tasks will build on each other to reach the project's goals and objectives. A time task chart should be included in appendix A of the application.

Management and Organizational Capability (35 Points)

The applicant must include a discussion of how it will coordinate and manage the activities of this program in a way that promises to achieve the stated goals and objectives. The applicant must clearly define the roles and responsibilities of key project staff and volunteers or other staff members. The applicant must describe the knowledge and experience of key staff relevant to this initiative and any organizational experience demonstrating its ability to accomplish the project objectives and to work with experts from diverse disciplines and perspectives to accomplish a common goal.

The application must demonstrate fully the required organizational and staff experience that qualifies the applicant to deliver technical support services as described in this solicitation. Applicants must demonstrate, in addition to program knowledge and support experience, programmatic and fiscal management capabilities to implement this program. The applicant must demonstrate direct experience in the following areas: (1) Administering, managing, and overseeing missing and exploited children NPOs; (2) recruiting, training, and supervising parent volunteers; (3) providing mentoring services and support to victim families; (4) working with other national missing and exploited children organizations, including NCMEC; (5) developing bylaws, charters, and certification procedures for missing and exploited children NPOs; (6) managing a national organization serving missing and exploited children NPOs; and (7) accessing, coordinating, and linking with Federal, State, and local resources for missing and exploited children and their families.

An organizational chart and résumés of proposed staff must be included in appendix B.

Budget (10 Points)

Applicants must provide a proposed budget that is complete, detailed, reasonable, allowable, and cost effective in relation to the activities to be undertaken during the project period. A detailed budget narrative should be included as appendix C and should conform to the guidelines in the OJJDP Application Kit. Applications must also conform to Federal requirements with respect to travel, equipment, and procurement policies.

Format

A program narrative, not to exceed 30 pages (excluding forms, table of contents, project abstract, certificates of confidentiality, statement about the coordination of Federal efforts, assurances, and appendix) must be submitted on 8½- by 11-inch paper, double-spaced on one side of the paper in a standard 12-point font. The narrative should be preceded by a one-page project abstract, which must also be submitted on 8½- by 11-inch paper, double-spaced on one side of the paper in a standard 12-point font. The abstract must not exceed 250 words. The double-spacing requirement applies to all parts of the program narrative and the project abstract, including lists, bulleted items, tables, and quotes. A table of contents is also required.

Appendix A must contain the project's timeline with dates for initiation and completion of critical project tasks and products. Appendix B must contain an organizational chart and résumés of proposed staff. Appendix C must contain the detailed budget narrative. Appendix D must contain the statement of coordination of Federal efforts.

These standards are necessary to maintain fair and uniform standards among all applicants. If the application does not conform to these standards, OJJDP will deem the application ineligible for consideration.

Award Period

This project will be funded for 4 years, in 1-year intervals. Funding after this first year depends on performance of the grantee, availability of funds, and other criteria established at the time of the award.

Award Amount

Up to $375,000 is available for the first year of this project.

Catalog of Federal Domestic Assistance (CFDA) Number

For this program, the CFDA number is 16.543. The CFDA number is required on SF-424, Application for Federal Assistance. SF-424 is included in the OJJDP Application Kit, which can be obtained by calling the Juvenile Justice Clearinghouse at 800-638-8736 or sending an e-mail request to puborder@ncjrs.org. The kit is also available online at www.ojjdp.ncjrs.org/grants/2000_app_kit/index.html.

Coordination of Federal Efforts

To encourage better coordination among Federal agencies in addressing State and local needs, DOJ is requesting applicants to provide information on the following: (1) Active Federal grant award(s) supporting this or related efforts, including awards from DOJ; (2) any pending application(s) for Federal funds for this or related efforts; and (3) plans for coordinating any funds described in items (1) or (2) with the funding sought by this application.

For each Federal award, applicants must include the program or project title, the Federal grantor agency, the amount of the award, and a brief description of its purpose. This statement of coordination of Federal efforts should be placed in appendix D. Include in appendix E a list of authors (by section) of this proposal and indicate whether this proposal or portions of it have been submitted to other Federal agencies for funding.

The term “related efforts” is defined for these purposes as one of the following:

• Efforts for the same purpose (i.e., the proposed award would supplement, expand, complement, or continue activities funded with other Federal grants).

• Another phase or component of the same program or project (e.g., to implement a planning effort funded by other Federal funds or to provide a substance abuse treatment or education component within a criminal justice project).

• Services of some kind (e.g., technical assistance, research, or evaluation) to the program or project described in the application.

Delivery Instructions

All application packages should be mailed or delivered to the Office of Juvenile Justice and Delinquency Prevention, c/o Juvenile Justice Resource Center, 2277 Research Boulevard, Mail Stop 2K, Rockville, Maryland 20850; 301-519-5535. Faxed or e-mailed applications will not be accepted.

Note: In the lower left-hand corner of the envelope, the applicant must clearly write “Missing and Exploited Children Nonprofit Organizations and Family Support Program.”

Due Date

Applicants are responsible for ensuring that the original and five copies of the application package are received by 5 p.m. EDT on August 24, 2001.

Contact

For further information, contact Ron Laney, Director, Child Protection Division, OJJDP, at 202-616-7323, or send an e-mail inquiry to laney@ojp.usdoj.gov.

References

Hanson, L. 2000. Second Comprehensive Study of Missing Children. Bulletin. Washington, DC: U.S. Department of Justice, Office of Justice Programs, Office of Juvenile Justice and Delinquency Prevention.

Office of Juvenile Justice and Delinquency Prevention. 1990. Missing, Abducted, Runaway, and Thrownaway Children in America, First Report: Numbers and Characteristics, National Incidence Studies. Washington, DC: U.S. Department of Justice, Office of Justice Programs, Office of Juvenile Justice and Delinquency Prevention.

Related Readings

American Bar Association, Center on Children and the Law. 1993. Obstacles to the Recovery and Return of Parentally Abducted Children. Washington, DC: U.S. Department of Justice, Office of Justice Programs, Office of Juvenile Justice and Delinquency Prevention.

Johnston J.R., and Girdner L. 2001. Family Abductors: Descriptive Profiles and Prevention Interventions. Bulletin. Washington, DC: U.S. Department of Justice, Office of Justice Programs, Office of Juvenile Justice and Delinquency Prevention.

Dated: July 19, 2001.
John J. Wilson,
Acting Administrator, Office of Juvenile Justice and Delinquency Prevention.

[FR Doc. 01-18584 Filed 7-24-01; 8:45 am]

BILLING CODE 4410-18-P